DEPARTMENT OF ENERGY

Federal Energy Regulatory Commission

[Docket No. EG01-36-000, et al.]

PPL Montour, LLC, et al.; Electric Rate and Corporate Regulation Filings

December 7, 2000.

Take notice that the following filings have been made with the Commission:

1. PPL Montour, LLC

[Docket No. EG01-36-00]

Take notice that on December 6, 2000, PPL Montour, LLC (PPL Montour) tendered for filing an Amendment to its Application for New Determination of Exempt Wholesale Generator Status.

Comment date: December 22, 2000, in accordance with Standard Paragraph E at the end of this notice. The Commission will limit its consideration of comments to those that concern the adequacy or accuracy of the application.

2. American Transmission Systems, Inc.

[Docket No. ER00-3667-001]

Take notice that on December 4, 2000, American Transmission Systems, Inc. (ATSI), tendered for filing its Rate Schedule FERC No. 2 to conform to the header and footer designations of Order No. 614, as directed by the Commission in its November 2, 2000 order. The rate schedule now bears the designation First Revised Rate Schedule FERC No. 2, and each sheet is given a sheet number. ATSI states that it has made no change to the text of the rate schedule.

FirstEnergy and ATSI state further that they have served the filing on all parties to the proceeding.

Comment date: December 26, 2000, in accordance with Standard Paragraph E at the end of this notice.

3. New York Independent System Operator, Inc.

[Docket Nos. ER97-1523-003, ER97-1523-004, OA97-470-004, OA97-470-005, ER97-4234-002 and ER97-4234-003]

Take notice that on December 1, 2000, the New York Independent System Operator, Inc. (NYISO), tendered for filing a Report on Certain Generation Issues One Year After Start-Up. The NYISO was required to submit this report pursuant to Central Hudson Gas & Electric Corp., et al., 88 FERC ¶ 61,138 (1999).

A copy of this filing was served upon all parties in Docket Nos. ER97-1523-003, and -004, OA97-470-004 and -005, and ER97-4234-002 and -003.

Comment date: December 22, 2000, in accordance with Standard Paragraph E at the end of this notice.

4. Xcel Energy Services Inc.

[Docket No. ER01-205-001]

Take notice that on December 4, 2000, Xcel Energy Services Inc. (Xcel Energy Services), in order to fully comply with the Commission's Order No. 614, tendered for filing codes of conduct for the market-based rate tariffs of Xcel Energy Services, Public Service Company of Colorado (PSCo) and Southwestern Public Service Company (SPS) that were previously filed in the above-captioned docket.

Since the filing made today is purely administrative in nature, Xcel Energy Services seeks the same effective date requested in its original filing, October 24, 2000.

Copies of this filing have been served on those parties listed on the official service list in this proceeding and the state commissions having jurisdiction over the Xcel Operating Companies.

Comment date: December 26, 2000, in accordance with Standard Paragraph E at the end of this notice.

5. Pacific Gas and Electric Company

[Docket No. ER01-460-001]

Take notice that on December 4, 2000, Pacific Gas and Electric Company (PG&E), tendered for filing amendments and corrections to its filing of November 15, 2000, in Docket No. ER01-460-000 concerning revised Must-Run Service Agreements (RMR Agreements) between it and the California Independent System Operator Corporation (ISO). The amendments are required to implement a request of the ISO to change planned outages of the Hunters Point Power Plant. The corrections result from typographic errors in the November 15 filing.

Copies of this filing have been served upon the ISO, the California Electricity Oversight Board, and the California Public Utilities Commission.

Comment Date: December 26, 2000, in accordance with Standard Paragraph E at the end of this notice.

6. Commonwealth Edison Company

[Docket No. ER01-546-000]

Take notice that on November 30, 2000, Commonwealth Edison Company and Commonwealth Edison Company of Indiana, Inc. (collectively “ComEd”), tendered for filing two unexecuted amended Network Service Agreements (NSA) between ComEd and the City of Batavia (Batavia), and between ComEd and the City of St. Charles (St. Charles). ComEd asks that the NSAs supersede and be substituted for the NSAs with Batavia and St. Charles previously filed on September 29, 2000 in Docket No. ER00-3788-000. These agreements will govern ComEd's provision of network service load under the terms of ComEd's Open Access Transmission Tariff (OATT).

ComEd requests an effective date of November 1, 2000 for the Agreements, and accordingly, seeks waiver of the Commission's notice requirements.

Copies were filed on the Cities of Batavia and St. Charles.

Comment date: December 21, 2000, in accordance with Standard Paragraph E at the end of this notice.

7. American Electric Power Service Corporation

[Docket No. ER01-552-000]

Take notice that on December 1, 2000, the American Electric Power Service Corporation (AEPSC), tendered for filing an executed Interconnection and Operation Agreement between Ohio Power Company and National Power Cooperative, Inc. The agreement is pursuant to the AEP Companies' Open Access Transmission Service Tariff (OATT) that has been designated as the Operating Companies of the American Electric Power System FERC Electric Tariff Revised Volume No. 6, effective June 15, 2000.

AEP requests an effective date of February 1, 2001.

A copy of the filing was served upon the Public Utilities Commission of Ohio.

Comment date: December 22, 2000, in accordance with Standard Paragraph E at the end of this notice.

8. New England Power Pool

[Docket No. ER01-554-000]

Take notice that on December 1, 2000, the New England Power Pool (NEPOOL) Participants Committee tendered for acceptance materials (1) to permit NEPOOL to expand its membership to include BP Energy Company, MIECO, Inc., The New Power Company and TCPL Power Ltd. (together, the Applicants); and (2) to terminate the memberships of StratErgy, Inc. (StratErgy) and PPL Utilities (PPLU).

The Participants Committee requests an effective date of December 1, 2000 for commencement of participation in NEPOOL by the Applicants, November 1, 2000 for the termination of StratErgy and December 31, 2000 for the termination of PPLU.

The Participants Committee states that copies of these materials were sent to the New England state governors and regulatory commissions and the Participants in NEPOOL.

Comment date: December 22, 2000, in accordance with Standard Paragraph E at the end of this notice.

9. Virginia Electric and Power Company

[Docket No. ER01-555-000]

Take notice that on December 1, 2000, Virginia Electric and Power Company (Dominion Virginia Power), tendered for filing an amendment, “Rider SB1286 For Resale Service to Central Virginia Electric Cooperative under Schedule VA-RC” (the Rider), to the Contract for the Purchase of Electricity for Resale by Rural Electric Cooperatives dated March 20, 1967, by and between Dominion Virginia Power and Central Virginia Electric Cooperative (CVEC), Rate Schedule FERC No. 94. The Rider reflects Senate Bill 1286 passed by the 1999 Virginia General Assembly which provides for both the elimination of the gross receipts tax and the imposition of a Virginia state income tax effective January 1, 2001.

Dominion Virginia Power requests that the amendment become effective January 1, 2001. Dominion Virginia Power states that copies of the filing have been served upon CVEC and the Virginia State Corporation Commission.

Comment date: December 22, 2000, in accordance with Standard Paragraph E at the end of this notice.

10. Holland Energy, LLC

[Docket No. ER01-558-000]

Take notice that on December 1, 2000, Holland Energy, LLC tendered for filing, pursuant to Section 205 of the Federal Power Act, and Part 35 of the Commission's regulations, a Petition for authorization to make sales of capacity, energy, and certain Ancillary Services at market-based rates, to reassign transmission capacity, and to resell Firm Transmission Rights.

Comment date: December 22, 2000, in accordance with Standard Paragraph E at the end of this notice.

11. Wolf Hills Energy, LLC

[Docket No. ER01-559-000]

Take notice that on December 1, 2000, Wolf Hills Energy, LLC submitted for filing, pursuant to Section 205 of the Federal Power Act, and Part 35 of the Commission's Regulations, a Petition for authorization to make sales of capacity, energy, and certain Ancillary Services at market-based rates, to reassign transmission capacity, and to resell Firm Transmission Rights.

Comment date: December 22, 2000, in accordance with Standard Paragraph E at the end of this notice.

12. Big Sandy Peaker Plant, LLC

[Docket No. ER01-560-000]

Take notice that on December 1, 2000, Big Sandy Peaker Plant, LLC, tendered for filing, pursuant to Section 205 of the Federal Power Act, and Part 35 of the Commission's Regulations, a Petition for authorization to make sales of capacity, energy, and certain Ancillary Services at market-based rates, and to reassign transmission capacity.

Comment date: December 22, 2000, in accordance with Standard Paragraph E at the end of this notice.

13. Xcel Energy Services, Inc.

[Docket No. ER01-561-000]

Take notice that on December 1, 2000, Xcel Energy Services Inc. (XES), on behalf of Public Service Company of Colorado (Public Service), tendered for filing a Long Term Firm Point-to-Point Transmission Service Agreement between Public Service and Tri-State Generation and Transmission Association Inc. under Xcel's Joint Open Access Transmission Service Tariff (Xcel FERC Electric Tariff, Original Volume No. 1).

XES requests that this agreement, designated as Original Service Agreement No. 101-PSCo, become effective on November 3, 2000.

Comment date: December 22, 2000, in accordance with Standard Paragraph E at the end of this notice.

14. SEI Michigan, L.L.C.

[Docket No. ER01-562-000]

Take notice that on December 1, 2000, SEI Michigan, L.L.C. (SEI Michigan) tendered for filing an application requesting acceptance of its proposed Market Rate Tariff, waiver of certain regulations, and blanket approvals. The proposed tariff would authorize SEI Michigan to engage in wholesale sales of capacity and energy to eligible customers at market rates.

Comment date: December 22, 2000, in accordance with Standard Paragraph E at the end of this notice.

15. Conectiv Energy Supply, Inc.

[Docket No. ER01-563-000]

Take notice that on December 1, 2000, Conectiv, on behalf of its subsidiaries Conectiv Energy Supply, Inc. (CESI) and Delmarva Power and Light Company (Delmarva), tendered for filing a power sale agreement (PSA) between CESI and Delmarva for CESI to sell all or a portion of the power needed by Delmarva to meet its retail sales obligation in the States of Delaware, Maryland and Virginia.

Conectiv asks that the PSA be allowed to become effective on February 1, 2001.

Copies of the filing were served upon the public utility's jurisdictional customers, and upon the regulatory commissions of the States of Delaware, Maryland and Virginia.

Comment date: December 22, 2000, in accordance with Standard Paragraph E at the end of this notice.

16. Xcel Energy Services, Inc.

[Docket No. ER01-564-000]

Take notice that on December 1, 2000, Xcel Energy Services Inc. (XES), on behalf of Public Service Company of Colorado (Public Service), tendered for filing a Short Term Firm Point-to-Point Transmission Service Agreement between Public Service and PacifiCorp Power Marketing under Xcel's Joint Open Access Transmission Service Tariff (Xcel FERC Electric Tariff, Original Volume No. 1).

XES requests that this agreement become effective on October 17, 2000 designated as Original Service Agreement No. 100-PSCo.

Comment date: December 22, 2000, in accordance with Standard Paragraph E at the end of this notice.

17. The Dayton Power and Light Company

[Docket No. ER01-565-000]

Take notice that on December 1, 2000, The Dayton Power and Light Company (DP&L), tendered for filing a Service Agreement and Transaction Agreement establishing DPL Energy Resources as a customer under the terms of DP&L's market-based sales tariff.

DP&L requests an effective date of January 1, 2001 for the Service Agreement and Transaction Agreement.

Copies of this filing were served upon DPL Energy Resources and the Public Utilities Commission of Ohio.

Comment date: December 22, 2000, in accordance with Standard Paragraph E at the end of this notice.

18. Duke Energy McClain, LLC

[Docket No. ER01-566-000]

Take notice that on December 1, 2000, Duke Energy McClain, LLC (Duke McClain), tendered for filing pursuant to Section 205 of the Federal Power Act its proposed FERC Electric Tariff No. 1.

Duke McClain seeks authority to sell energy and capacity, as well as ancillary services, at market-based rates, together with certain waivers and preapprovals. Duke McClain also seeks authority to sell, assign, or transfer transmission rights that it may acquire in the course of its marketing activities.

Duke McClain seeks an effective date sixty (60) days from the date of filing for its proposed rate schedules.

Comment date: December 22, 2000, in accordance with Standard Paragraph E at the end of this notice.

19. Virginia Electric and Power Company

[Docket No. ER01-567-000]

Take notice that on December 1, 2000, Virginia Electric and Power Company (Dominion Virginia Power), tendered for filing an amendment, “Rider SB1286 For Resale Service to Rural Electric Cooperatives under Schedule VA-RC” (the Rider), to the Contract for the Purchase of Electricity for Resale By Rural Electric Cooperatives dated March 20, 1967 by and between Dominion Virginia Power and Craig-Botetourt Electric Cooperative (CBEC), Rate Schedule FERC No. 78. The Rider reflects Senate Bill 1286 passed by the 1999 Virginia General Assembly which provides for both the elimination of the gross receipts taxes and the imposition of a Virginia State income tax effective January 1, 2001.

Dominion Virginia Power requests that the amendment become effective January 1, 2001.

Dominion Virginia Power states that copies of the filing have been served upon CBEC and the Virginia State Corporation Commission.

Comment date: December 22, 2000, in accordance with Standard Paragraph E at the end of this notice.

20. Commonwealth Edison Company

[Docket No. ER01-568-000]

Take notice that on December 1, 2000 Commonwealth Edison Company (ComEd) tendered for filing agreements between ComEd and Exelon Generation Company, L.L.C. (Exelon).

ComEd requests an effective date of the later of January 1, 2001 or the date the facilities underlying the agreements are transferred to Exelon.

ComEd states that a copy of the filing was served on Exelon, parties to Docket No. EC00-98, and the Illinois Commerce Commission.

Comment date: December 22, 2000, in accordance with Standard Paragraph E at the end of this notice.

21. Virginia Electric and Power Company

[Docket No. ER01-569-000]

Take notice that on December 1, 2000, Virginia Electric and Power Company (the Company), tendered for filing Notices of Assignment entered into by and among Public Service Electric and Gas Company (Assignor), PSEG Energy Resources & Trade LLC (Assignee), and Virginia Electric and Power Company dated August 24, 2000. Under this assignment, the Assignor assigns to the Assignee and the Assignee assumes all of the Assignor's rights and obligations pertaining to the following Service Agreements with Virginia Electric and Power Company:

1. Service Agreement for Non-Firm Point-To-Point Transmission Service dated May 20, 1997 and accepted by Letter Order dated August 20, 1997 in Docket No. ER97-3652-000.

2. Service Agreement for Firm Point-To-Point Transmission Service dated October 7, 1997 and accepted by Letter Order dated December 15, 1997 in Docket No. ER98-512-000.

The Company requests an effective date of the assignments of August 21, 2000.

Copies of this filing were served upon PSEG Energy Resources & Trade LLC, the Virginia State Corporation Commission and the North Carolina Utilities Commission.

Comment date: May 5, 2000, in accordance with Standard Paragraph E at the end of this notice.

22. Dearborn Industrial Generation, L.L.C.

[Docket No. ER01-570-000]

Take notice that on December 1, 2000, Dearborn Industrial Generation, L.L.C. (DIG), tendered for filing pursuant to Rule 205, 18 CFR 385.205, a petition for waivers and blanket approvals under various regulations of the Commission and for an order accepting its FERC Electric Tariff No. 2 to be effective at the earliest possible time, but not later than 60 days for the date of its filing.

DIG intends to engage in electric power and energy purchases and sales. In transactions where DIG sells electric energy, it proposes to make such sales on rates, terms and conditions to be manually agreed to with the purchasing party. As outlined in DIG's petition, DIG is an affiliate of CMS Energy, a public utility holding company and the parent company of Consumers Energy Company.

Comment date: December 22, 2000, in accordance with Standard Paragraph E at the end of this notice.

23. Central Vermont Public Service Corporation

[Docket No. ER01-571-000]

Take notice that on November 30, 2000, Central Vermont Public Service Corporation (CVPS), tendered for filing the Forecast 2001 Cost Report required under Paragraph Q-2 on Original Sheet No. 19 of the Rate Schedule FERC No. 135 (“RS-2 rate schedule”) under which CVPS sells electric power to Connecticut Valley Electric Company Inc. (Customer). CVPS states that the Cost Report reflects changes to the RS-2 rate schedule which were approved by the Commission's June 6, 1989 order in Docket No. ER88-456-000.

Comment date: December 20, 2000, in accordance with Standard Paragraph E at the end of this notice.

24. Commonwealth Edison Company

[Docket No. ER01-572-000]

Take notice that on December 1, 2000, Commonwealth Edison Company (ComEd), tendered for filing a Short-Term Firm Transmission Service Agreement with TransAlta Energy Marketing (TEM) under the terms of ComEd's Open Access Transmission Tariff (OATT).

ComEd requests an effective date of November 9, 2000 for the Agreement, and accordingly, seeks waiver of the Commission's notice requirements.

Comment date: December 22, 2000, in accordance with Standard Paragraph E at the end of this notice.

25. Alliant Energy Corporate Services, Inc.

[Docket No. ER01-573-000]

Take notice that on December 4, 2000, Alliant Energy Corporate Services, Inc. tendered for filing executed Service Agreements for long-term firm point-to-point transmission service, establishing Madison Gas and Electric Company as a point-to-point Transmission Customer under the terms of the Alliant Energy Corporate Services, Inc. transmission tariff.

Alliant Energy Corporate Services, Inc. requests an effective date of January 1, 2001, and accordingly, seeks waiver of the Commission's notice requirements. A copy of this filing has been served upon the Illinois Commerce Commission, the Minnesota Public Utilities Commission, the Iowa Department of Commerce, and the Public Service Commission of Wisconsin.

Comment date: December 26, 2000, in accordance with Standard Paragraph E at the end of this notice.

26. Hunlock Creek Energy Ventures

[Docket No. ER01-574-000]

Take notice that on December 4, 2000 Hunlock Creek Energy Ventures (Energy Ventures), tendered for filing a market rate tariff of general applicability under which it proposes to sell capacity and energy to affiliates and non-affiliates at market-based rates, and to make such sales to franchised utility affiliates with captive rate payers at rates capped by a publicly available regional index price.

Energy Ventures requests an effective date no later than December 5, 2000.

Copies of the filing have been provided to the Public Utilities Commission of Ohio, the Pennsylvania Public Utility Commission, the Maryland Public Service Commission, the Virginia State Corporation Commission, the West Virginia Public Service Commission, and all parties of record.

Comment date: December 26, 2000, in accordance with Standard Paragraph E at the end of this notice.

27. Central Maine Power Company

[Docket No. ER01-576-000]

Take notice that on December 4, 2000, Central Maine Power Company (CMP), tendered for filing as an initial rate schedule pursuant to Section 35.12 of the Federal Energy Regulatory Commission's (the Commission) Regulations, 18 CFR 35.12, an executed interconnection agreement (the Agreement) between CMP and Sparhawk Mill Company (Sparhawk).

The Agreement is intended to replace and supersede the unexecuted interconnection agreement filed by CMP on March 31, 2000. As such, CMP is requesting that the Agreement become effective March 1, 2000.

Copies of this filing have been served upon the Commission, the Maine Public Utilities Commission, and Sparhawk.

Comment date: December 26, 2000, in accordance with Standard Paragraph E at the end of this notice.

28. Puget Sound Energy, Inc.

[Docket No. ER01-578-000]

Take notice that on December 4, 2000, Puget Sound Energy, Inc., as Transmission Provider, tendered for filing a Service Agreement for Firm Point-To-Point Transmission Service and a Service Agreement for Non-Firm Point-To-Point Transmission Service with Aquila, as Transmission Customer.

A copy of the filing was served upon Aquila.

Comment date: December 26, 2000, in accordance with Standard Paragraph E at the end of this notice.

29. Puget Sound Energy, Inc.

[Docket No. ER01-579-000]

Take notice that on December 4, 2000, Puget Sound Energy, Inc., as Transmission Provider, tendered for filing a Service Agreement for Firm Point-To-Point Transmission Service and a Service Agreement for Non-Firm Point-To-Point Transmission Service with Cinergy Energy Services, Inc. (Cinergy), as Transmission Customer.

A copy of the filing was served upon Cinergy.

Comment date: December 26, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-31885 Filed 12-13-00; 8:45 am]

BILLING CODE 6717-01-U